DEPARTMENT OF DEFENSE

Department of the Army

Notice of Intent (NOI) To Prepare an Environmental Impact Statement for the Future Development and Operations at Fort Meade, MD

AGENCY: Department of the Army, DOD.

ACTION: Notice of availability.

SUMMARY: The U.S. Army Fort George G. Meade, Maryland, announces its intent to prepare an Environmental Impact Statement (EIS) that will address the future development and operations of Fort Meade's Real Property Master Plan (RPMP) for the Years 2000-2004. The planned projects which will occur during this time include the following: construction of new facilities that will consolidate tenants from dilapidated World War II structures and off post leased facilities into more cost efficient and effective facilities, demolition and construction of barracks and mess halls and providing on post development opportunities for tenants on installations that are currently faced with Base Realignment and Closure. It is the purpose of this EIS to further assess the impacts, most specifically to air and traffic, that were identified in the Environmental Assessment entitled “Future Development and Operations Environmental Assessment” dated April 1999.

ADDRESSES: Questions or written comments may be forwarded to the U.S. Army Corps of Engineers, Baltimore District, Planning Division, Planning and Environmental Services Branch (Attn: Ft. Meade EIS), 10 South Howard Street, P.O. Box 1715, Baltimore, Maryland 21203-1715, Telephone (410) 962-4939.

FOR FURTHER INFORMATION CONTACT: Mr. Jim Gebhardt, Environmental Engineer, Directorate of Public Works Environmental Management Office, at (301) 677-9365.

SUPPLEMENTARY INFORMATION: The Fort Meade RPMP has the potential to significantly impact certain natural, economic, social and cultural resources of the Fort Meade community. The objective is to prepare a comprehensive EIS which will serve as a planning tool, a public information source and a reference for mitigation tracking.

Alternatives may consist of alternate locations for specific projects, partial implementation of the specific project or modifications to the specific project. The alternatives will be developed during the preparation of the Draft EIS (DEIS) as a result of public input and the environmental analysis of the proposals within the plan. The objective Fort Meade's DEIS is to identify and evaluate any environmental implications that may result from developing the Master Plan. The DEIS will describe the impacts of existing environmental, cultural and natural resources, social, economic and environmental justice conditions associated with the proposed projects at Fort Meade.

The Army will initiate a scoping process to discuss significant issues related to the DEIS through public meetings and local publications. These efforts are designed to encourage public input that will inevitably help determine and better define the underlying issues of the DEIS. Planned public meetings will be announced through local publications and online Internet access in advance of any proposed action, announcing meeting time and location.

A public meeting will be held on Fort Meade to facilitate input to the EIS process by citizens and organizations. The date and time of these meetings will be announced in the general media and will be at times and locations convenient to the public. To be considered in the Draft EIS, comments and suggestions should be received not later than 15 days following the public scoping meeting.

Significant issues: Within Fort Meade's boundaries lie numerous historic and prehistoric sites that were identified through the Cultural Resources Management Plan. Fort Meade also maintains historically significant structures which are eligible for inclusion on the National Register and may be directly affected by the actions proposed in the long range Master Plan. Equally important is the impact Fort Meade has on the Chesapeake Bay and the crucial role it plays in maintaining and protecting which is considered one of the world's most diverse ecosystems. Fort Meade is also home to eleven State Endangered Species, including the Glassy Darter which is one of only two locations in the State of Maryland where the fish is known to exist.

Dated: February 24, 2000.
Raymond J. Fatz,
Deputy Assistant Secretary of the Army (Environment, Safety and Occupational Health) OASA(I&E).

[FR Doc. 00-5082 Filed 3-1-00; 8:45 am]

BILLING CODE 3710-08-M